DEPARTMENT OF COMMERCE

National Oceanic and Atmospheric Administration

50 CFR Part 660

[Docket No. 201204-0325]

RIN 0648-BL10

Magnuson-Stevens Act Provisions; Fisheries Off West Coast States; Pacific Coast Groundfish Fishery; 2021-2022 Biennial Specifications and Management Measures; Inseason Adjustments; Correction

AGENCY: National Marine Fisheries Service (NMFS), National Oceanic and Atmospheric Administration (NOAA), Commerce.

ACTION: Final rule; correction.

SUMMARY: NMFS published a final rule on December 23, 2021, announcing routine inseason adjustments to management measures in the commercial and recreational groundfish fisheries. In implementing these changes, NMFS inadvertently removed the trip limit for California black rockfish between 42° N latitude and 40°10′ N latitude in Table 2 (North) and Table 3 (North). This correction is necessary so that the implementing regulations are accurate.

DATES: This correction is effective January 1, 2022.

FOR FURTHER INFORMATION CONTACT: Sean E. Matson, (206) 526-6140, email: sean.matson@noaa.gov.

ADDRESSES:

Electronic Access

This rule is accessible via the internet at the Office of the Federal Register website at https://www.federalregister.gov. Background information and documents are available at the Pacific Fishery Management Council's website at http://www.pcouncil.org/.

SUPPLEMENTARY INFORMATION: NMFS published a final rule on December 23, 2021, announcing routine inseason adjustments to management measures in the commercial and recreational groundfish fisheries. This rule is effective January 1, 2022.

The December 23, 2021, final rule implemented changes to trip limits for sablefish north of 36° N latitude and for lingcod north of 42° N latitude. Additionally, the final rule announced new sub-bag limits and sub-trip limits, in recreational and non-trawl commercial fisheries respectively, for two nearshore species, quillback rockfish and copper rockfish, as well as the shelf species vermillion rockfish.

In implementing these changes, NMFS inadvertently removed the trip limit for California black rockfish between 42° N latitude and 40°10′ N latitude in Table 2 (North) and Table 3 (North) of part 660, subpart E and F, respectively. This correction reinstates this trip limit as Line 22 of both tables. No other changes are made via this correction document. This correction is necessary so that the implementing regulations are accurate.

Correction

Effective January 1, 2022, in FR Doc. 2021-27901 at 86 FR 72863 in the issue of December 23, 2021, the following corrections are made:

Table 2 (North) to Part 660 [Corrected]

1. On page 72869, in amendatory instruction 2, Table 2 (North) to Part 660, Subpart E—Non-Trawl Rockfish Conservation Areas and Trip Limits for Limited Entry Fixed Gear North of 40°10′ N Lat. is corrected to read as follows:

BILLING CODE 3510-22-P

Table 3 (North) to Part 660, Subpart F [Corrected]

2. On page 72871, in amendatory instruction 4, Table 3 (North) to Part 660, Subpart F—Non-Trawl Rockfish Conservation Areas and Trip Limits for Open Access Gears North of 40°10′ N Lat. is corrected to read as follows:

Dated: December 27, 2021.
Karen Abrams,
Acting Director, Office of Sustainable Fisheries, National Marine Fisheries Service.

[FR Doc. 2021-28351 Filed 12-29-21; 8:45 am]

BILLING CODE 3510-22-C